DEPARTMENT OF AGRICULTURE

Animal and Plant Health Inspection Service

7 CFR Part 319

[Docket No. APHIS-2012-0099]

Updates to the List of Plant Inspection Stations

AGENCY: Animal and Plant Health Inspection Service, USDA.

ACTION: Final rule.

SUMMARY: We are amending the regulations governing the importation of plants for planting to remove the entries for the United States Department of Agriculture (USDA) plant inspection stations in New Orleans, LA, and Baltimore, MD, and to add an entry for the USDA plant inspection station in Beltsville, MD. We are also updating the addresses provided for the USDA plant inspection stations in Florida, Guam, and Hawaii. This final rule is necessary for the regulations to reflect the most current information regarding USDA plant inspection stations.

DATES: Effective April 26, 2013.

FOR FURTHER INFORMATION CONTACT: Mr. Alan V. Tasker, Senior Regulatory Policy Specialist, PPQ, APHIS, 4700 River Road Unit 133, Riverdale, MD 20737-1231; (301) 851-2224.

SUPPLEMENTARY INFORMATION:

Background

The regulations in 7 CFR part 319 prohibit or restrict the importation of certain plants and plant products into the United States to prevent the introduction and dissemination of plant pests. The regulations contained in Subpart—Plants for Planting, §§ 319.37-1 through 319.37-14 (referred to below as the regulations), restrict or prohibit the importation of living plants, seeds, or plant parts intended for propagation. The regulations also describe requirements for the importation of these articles.

Section 319.37-14 of the regulations contains a list of United States Department of Agriculture (USDA) plant inspection stations and the corresponding ports of entry through which certain articles must pass in order to be imported into the United States. In order to be designated as a USDA plant inspection station, a building must have adequate space for inspection areas to be set up, laboratory facilities for pest and disease identification, and in some cases, provide facilities for treatment of imported living plants, seeds, or plant parts intended for propagation. Currently there are 16 USDA plant inspection stations listed in the regulations. USDA plant inspection stations are staffed by personnel from the Animal and Plant Health Inspection Service's (APHIS) Plant Protection and Quarantine (PPQ) division who inspect articles to ensure they are free of plant pests and diseases and otherwise comply with APHIS import requirements.

PPQ has operated a specialized facility for several years, known as the Plant Germplasm Inspection Station, in Beltsville, MD, that is uniquely designed for handling germplasm and other plant material imported for plant breeding and research programs. The Plant Germplasm Inspection Station satisfies the criteria for being designated as a USDA plant inspection station, therefore, we are adding it to the list in § 319.37-14.

The existing list of ports of entry and plant inspection stations in § 319.37-14 is in need of several updates. Therefore, we are amending the regulations by removing the entries for the USDA plant inspection stations in New Orleans, LA, which has been closed, and Baltimore, MD, which had been listed in error, and by updating the addresses for the USDA plant inspection stations in Florida, Guam, and Hawaii.

We are publishing this rule without prior proposal because it relates to internal agency management. Therefore, pursuant to 5 U.S.C. 553, notice of proposed rulemaking and opportunity to comment are not required, and this rule may be made effective less than 30 days after publication in the Federal Register. Further, since this rule relates to internal agency management, it is exempt from the provisions of Executive Orders 12866 and 12988. Finally, this action is not a rule as defined by the Regulatory Flexibility Act, and thus is exempt from the provisions of that Act.

Paperwork Reduction Act

This rule contains no new information collection or recordkeeping requirements under the Paperwork Reduction Act of 1995 (44 U.S.C. 3501 et seq.)

List of Subjects in 7 CFR Part 319

Coffee, Cotton, Fruits, Imports, Logs, Nursery stock, Plant diseases and pests, Quarantine, Reporting and recordkeeping requirements, Rice, Vegetables.

Accordingly, 7 CFR part 319 is amended as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.37-14, in the table, the list of USDA plant inspection stations is amended as follows:

a. By removing the entries for Louisiana and Maryland;

b. By adding, in alphabetical order, a new entry for Maryland; and

c. By revising the entries for Florida, Guam, and Hawaii.

The addition and revisions read as follows:

§ 319.37-14 Ports of entry.

* * * * *

List of USDA Plant Inspection Stations
State | Port of entry | Federal plant inspection stations
* * * * * * *
Florida | Miami (Note: Restricted articles may be moved from Fort Lauderdale to Miami under U.S. Customs bond) | Plant Inspection Station, 6302 NW 36th Street, Miami, FL 33122.
| Orlando | Plant Inspection Station, 3951 Centerport St., Orlando, FL 32827.
* * * * * * *
Guam | Agana | Plant Inspection Station, 17-3306 Neptune Avenue, Tiyan, Barrigada, GU 96913.
Hawaii | Honolulu (Airport) | Honolulu Inspection Station, Honolulu International Airport, 300 Rodgers Boulevard, #58, Honolulu, HI 96819-1897.
Maryland | Beltsville (Note: Plant germplasm only) | National Plant Germplasm Inspection Station, Building 580, BARC East, Beltsville, MD 20705.
* * * * * * *

Done in Washington, DC, this 18th day of April 2013.
Kevin Shea,
Acting Administrator, Animal and Plant Health Inspection Service.

[FR Doc. 2013-09801 Filed 4-25-13; 8:45 am]

BILLING CODE 3410-34-P